SECURITIES AND EXCHANGE COMMISSION

[Release 34-44831; File No. 600-22]

Self-Regulatory Organizations; MBS Clearing Corporation; Notice of Filing and Order Approving a Request for an Extension of Temporary Registration as a Clearing Agency

September 21, 2001.

Pursuant to Section 19(a) of the Securities Exchange Act of 1934 (“Act”),¹ notice is hereby given that on August 24, 2001, MBS Clearing Corporation (“MBSCC”) filed with the Securities and Exchange Commission (“Commission”) an application requesting that the Commission grant MBSCC full registration as a clearing agency or in the alternative extend MBSCC's temporary registration as a clearing agency until such time as the Commission is able to grant MBSCC permanent registration.² The Commission is publishing this notice and order to solicit comments from interested persons and to extend MBSCC's temporary registration as a clearing agency through March 31, 2002.

¹ 15 U.S.C. 78s(a).

² Letter from Jeffrey F. Ingber, Managing Director, General Counsel and Secretary, MBSCC (August 21, 2001).

On February 2, 1987, pursuant to Sections 17A(b) and 19(a) of the Act ³ and Rule 17Ab2-1 promulgated thereunder,⁴ the Commission granted MBSCC registration as a clearing agency on a temporary basis for a period of eighteen months.⁵ The Commission subsequently has extended MBSCC's registration through September 30, 2001.⁶

³ 15 U.S.C. 78q-1(b) and 78s(a).

⁴ 17 CFR 240.17Ab2-1.

⁵ Securities Exchange Act Release No. 24046 (February 2, 1987), 52 FR 3218.

⁶ Securities Exchange Act Release Nos. 25957 (August 2, 1988), 53 FR 29357; 27079 (July 31, 1989), 54 FR 34212; 28492 (September 28, 1990), 55 FR 41148; 29751 (September 27, 1991), 56 FR 50602; 31750 (January 21, 1993), 58 FR 6424; 33348 (December 15, 1993), 58 FR 68183; 35132 (December 21, 1994), 59 FR 67743; 37372 (June 26, 1996), 61 FR 35281; 38784 (June 27, 1997), 62 FR 36587; 39776 (March 20, 1998), 63 FR 14740; 41211 (March 24, 1999), 64 FR 15854; 42568 (March 23, 2000), 65 FR 16980; and 44089 (March 21, 2001), 66 FR 1691.

The Government Securities Clearing Corporation (“GSCC”), the Emerging Market Clearing Corporation (“EMCC”), and MBSCC are currently taking steps toward the integration of GSCC, EMCC, and MBSCC and the acquisition of these clearing agencies by The Depository Trust and Clearing Corporation. In order to have time to study the affect of the acquisition and integration on MBSCC's governance and organizational structure, the Commission is extending MBSCC's registration as a clearing agency on a temporary basis through March 31, 2002.

Interested persons are invited to submit written data, views, and arguments concerning the foregoing application. Such written data, views, and arguments will be considered by the Commission in granting registration or institution proceedings to determine whether registration should be denied in accordance with Section 19(a)(1) of the Act.⁷ Persons making written submissions should file six copies thereof with the Secretary, Securities and Exchange Commission, 450 Fifth Street, N.W., Washington, D.C. 20549. Copies of the amended application for registration and all written comments will be available for inspection at the Commission's Public Reference Room, 450 Fifth Street, N.W., Washington, D.C. 20549. All submissions should refer to File No. 600-22 and should be submitted by October 19, 2001.

⁷ 15 U.S.C. 78s(a)(1).

It Is Therefore Ordered that MBSCC's temporary registration as a clearing agency (File No. 600-22) be and hereby is extended through March 31, 2002.

⁸ 17 CFR 200.30-3(a)(16).

For the Commission, by the Division of Market Regulation, pursuant to delegated authority.⁸
Margaret H. McFarland,
Deputy Secretary.

[FR Doc. 01-24278 Filed 9-27-01; 8:45 am]

BILLING CODE 8010-01-M